DEPARTMENT OF HEALTH AND HUMAN SERVICES

Administration for Children and Families

Proposed Information Collection Activity; Tribal Early Childhood Facilities Combined Application Guide (New Collection)

AGENCY: Office of Early Childhood Development, Administration for Children and Families, U.S. Department of Health and Human Services.

ACTION: Request for public comments.

SUMMARY: The Office of Early Childhood Development (ECD), Administration for Children and Families (ACF), U.S. Department of Health and Human Services (HHS), is requesting Office of Management and Budget (OMB) approval of the Tribal Early Childhood Facilities Combined Application Guide for joint applications for construction and major renovation projects using both Head Start and Child Care and Development Fund (CCDF) resources.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: Funding for facilities under the CCDF is authorized by section 658O(c)(6) of the Child Care and Development Block Grant (CCDBG) Act, 42 U.S.C. 9858(c)(6), and is managed by the Office of Child Care (OCC). Funding for Head Start facilities projects is authorized by 45 CFR part 1303 (subpart E) Head Start Program Performance Standards and is managed by the Office of Head Start (OHS). The guide streamlines the process for Tribal CCDF Lead Agencies and American Indian and Alaska Native (AI/AN) Head Start programs submitting collaborative, joint applications to use federal CCDF and Head Start funds for facilities projects where funds can be used for reasonable costs and fees related to planning for a facilities project and to support the application development in tribal communities. Both funds aim to construct or improve early childhood facilities, often serving the same children, but application submission and review processes are currently unique to each respective funding stream. The proposed information collection will provide instructions to Tribal CCDF Lead Agencies and AI/AN Head Start programs on submitting joint plans for how proposed facilities projects will enable the programs to better serve current AI/AN families or increase enrollment currently limited by inadequate facilities. The guide will provide critical information and resources, so recipients understand the requirements of each program and develop plans that reflect the needs of their communities. Reducing and streamlining administrative burdens for tribal constituents follows policy priorities laid out in the 2022 HHS Equity Action Plan and is in alignment with Executive Order 14095—Executive Order on Increasing Access to High-Quality Care and Supporting Caregivers.

Respondents: AI/AN Head Start Facilities and Tribal CCDF Lead Agencies (information collection does not include direct interaction with individuals or families that receive the services).

Annual Burden Estimates: We estimate at most 10 applications per year and have estimated burden based on this maximum number.

Instrument | Total number of respondents | Annual number of responses per respondent | Average burden hours per response | Annual burden hours
Tribal Early Childhood Facilities Application Guide | 10 | 1 | 100 | 1,000

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 9858(c)(6); 45 CFR part 1303 subpart E.

Mary B. Jones,
ACF/OPRE Certifying Officer.

[FR Doc. 2023-26307 Filed 11-29-23; 8:45 am]

BILLING CODE 4184-87-P